DEPARTMENT OF ENERGY

Federal Energy Regulatory Commission

[Project No. 2816-050]

Notice of Waiver Period for Water Quality Certification Application; North Hartland, LLC

On October 23, 2020, the Vermont Department of Environmental Conservation (Vermont DEC) notified the Federal Energy Regulatory Commission (Commission) that North Hartland, LLC submitted an application for a Clean Water Act section 401(a)(1) water quality certification to the Vermont DEC on October 22, 2020, in conjunction with the above captioned project. Pursuant to 40 CFR 121.6, we hereby notify the Vermont DEC of the following:

Date of Receipt of the Certification Request: October 22, 2020.

Reasonable Period of Time to Act on the Certification Request: One year.

Date Waiver Occurs for Failure to Act: October 22, 2021.

If the Vermont DEC fails or refuses to act on the water quality certification request by the above waiver date, then the agency's certifying authority is deemed waived pursuant to section 401(a)(1) of the Clean Water Act, 33 U.S.C. 1341(a)(1).

Dated: November 6, 2020.
Nathaniel J. Davis, Sr.,
Deputy Secretary.

[FR Doc. 2020-25114 Filed 11-12-20; 8:45 am]

BILLING CODE 6717-01-P